DEPARTMENT OF ENERGY

Federal Energy Regulatory Commission

Combined Notice of Filings

Take notice that the Commission has received the following Natural Gas Pipeline Rate and Refund Report filings:

Filings Instituting Proceedings

Docket Numbers: RP11-1711-000.

Applicants: Texas Gas Transmission, LLC.

Description: Compliance filing per 154.501: 2014 Cash Out Filing.

Filed Date: 1/30/15.

Accession Number: 20150130-5019.

Comments Due: 5 p.m. ET 2/11/15.

Docket Numbers: RP15-420-000.

Applicants: Iroquois Gas Transmission System, L.P.

Description: § 4(d) rate filing per 154.204: 02/02/15 Negotiated Rates—ConEdison Energy Inc. (HUB) 2275-89 to be effective 2/1/2015.

Filed Date: 2/2/15.

Accession Number: 20150202-5111.

Comments Due: 5 p.m. ET 2/17/15.

Docket Numbers: RP15-421-000.

Applicants: Iroquois Gas Transmission System, L.P.

Description: § 4(d) rate filing per 154.204: 02/02/15 Negotiated Rates—Mercuria Energy Gas Trading LLC (HUB) 7540-89 to be effective 1/31/2015.

Filed Date: 2/2/15.

Accession Number: 20150202-5113.

Comments Due: 5 p.m. ET 2/17/15.

Docket Numbers: RP15-422-000.

Applicants: Iroquois Gas Transmission System, L.P.

Description: § 4(d) rate filing per 154.204: 02/02/15 Negotiated Rates—Sequent Energy Management (HUB) 3075-89 to be effective 2/1/2015.

Filed Date: 2/2/15.

Accession Number: 20150202-5114.

Comments Due: 5 p.m. ET 2/17/15.

Docket Numbers: RP15-423-000.

Applicants: Gulf South Pipeline Company, LP.

Description: § 4(d) rate filing per 154.204: Amendment to Neg Rate Agmt (Chevron 41610-5) to be effective 2/1/2015.

Filed Date: 2/2/15.

Accession Number: 20150202-5118.

Comments Due: 5 p.m. ET 2/17/15.

Docket Numbers: RP15-424-000.

Applicants: Iroquois Gas Transmission System, L.P.

Description: § 4(d) rate filing per 154.204: 02/02/15 Negotiated Rates—Trafigura Trading LLC (HUB) 7445-89 to be effective 1/30/2015.

Filed Date: 2/2/15.

Accession Number: 20150202-5120.

Comments Due: 5 p.m. ET 2/17/15.

Docket Numbers: RP15-425-000.

Applicants: Rockies Express Pipeline LLC.

Description: § 4(d) rate filing per 154.204: Neg Rate 2015-02-02 Mieco to be effective 2/1/2015.

Filed Date: 2/2/15.

Accession Number: 20150202-5232.

Comments Due: 5 p.m. ET 2/17/15.

Docket Numbers: RP15-426-000.

Applicants: Northern Natural Gas Company.

Description: § 4(d) rate filing per 154.204: 20150202 Negotiated Rate to be effective 2/3/2015.

Filed Date: 2/2/15.

Accession Number: 20150202-5257.

Comments Due: 5 p.m. ET 2/17/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-271-001.

Applicants: Columbia Gas Transmission, LLC.

Description: Compliance filing per 154.203: Negotiated & Non-Conforming Service Agmt—PacSum Compliance Filing to be effective 1/1/2015.

Filed Date: 2/2/15.

Accession Number: 20150202-5254.

Comments Due: 5 p.m. ET 2/17/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2015.
Nathaniel J. Davis, Sr.,
Deputy Secretary.

[FR Doc. 2015-02953 Filed 2-11-15; 8:45 am]

BILLING CODE 6717-01-P